DEPARTMENT OF TRANSPORTATION

Office of the Secretary

Notice of Applications for Certificates of Public Convenience and Necessity and Foreign Air Carrier Permits Filed Under Subpart B (Formerly Subpart Q) During the Week Ending June 20, 2003

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-15451.

Date Filed: June 18, 2003.

Due Date for Answers, Conforming Applications, or Motion to Modify Scope: July 9, 2003.

Description: Application of Atlasjet Uluslararasi Havacilik A.S., pursuant to 49 U.S.C. Section 41301, 14 CFR part 211 and subpart B, requesting a foreign air carrier permit authorizing it to engage in charter foreign air transportation of persons, property, and mail between points in Turkey and points in the United States and between points in the United States and points in third countries as authorized by and in accordance with the provisions of the Air Transport Agreement executed between the Governments of the Republic of Turkey and the United States.

Dorothy Y. Beard,
Chief, Docket Operations & Media Management, Federal Register Liaison.

[FR Doc. 03-16710 Filed 7-1-03; 8:45 am]

BILLING CODE 4910-62-P